DEPARTMENT OF TRANSPORTATION

Federal Highway Administration

[Docket No. FHWA-2013-0012]

Notice of Funding Availability for the Tribal Transportation Program Safety Funds; and Request for Comments

AGENCY: Federal Highway Administration (FHWA), Department of Transportation (DOT).

ACTION: Notice of funding availability; request for comments.

SUMMARY: This notice announces the availability of funding for Indian tribal governments for Tribal Transportation Program Safety Funds (TTPSF) authorized within the Tribal Transportation Program (TTP) under the Moving Ahead for Progress in the 21st Century Act (MAP-21). The FHWA will distribute these funds as described in this notice on a competitive basis in a manner consistent with the eligibilities of this program.

In addition, this notice proposes criteria FHWA will use to identify projects for funding and describes application procedures. The FHWA requests comments on the content of this notice. The FHWA will take all comments into consideration and publish a final notice of funding availability.

The FHWA will solicit grant applications through the government-wide electronic grants Web site at http://www.grants.gov and will publish a solicitation memo on the FHWA Web site at http://flh.fhwa.dot.gov.

DATES: All public comments must be received on or before May 30, 2013. Late-filed comments will be considered to the extent practicable.

The FHWA plans to conduct outreach regarding the TTPSF in the form of Webinars on May 1 at 1:00 e.t., (participants can pre-register online at: https://www.nhi.fhwa.dot.gov/resources/webconference/web_conf_learner_reg.aspx?webconfid=26059) and May 8 at 4:00 e.t., (participants can pre-register online at: https://www.nhi.fhwa.dot.gov/resources/webconference/web_conf_learner_reg.aspx?webconfid=26060). Both Webinars will be recorded and posted on FHWA's Web site at: http://flh.fhwa.dot.gov.

ADDRESSES: You may submit comments, identified by docket number FHWA-2013-0012, by any of the following methods:

Federal eRulemaking Portal: Go to http://www.regulations.gov and follow the online instructions for submitting comments.

Mail: Docket Management Facility, U.S. Department of Transportation, 1200 New Jersey Avenue SE., Washington, DC 20590-0001.

Hand Delivery: West Building Ground Floor, Room W12-140, 1200 New Jersey Avenue SE., Washington, DC 20590-0001, between 9 a.m. and 5 p.m., Monday through Friday, except Federal holidays.

Instructions: You must include the agency name and docket number FHWA-2013-0012 on your comments. All comments received will be posted, without change, to http//www.regulations.gov, including any personal information provided.

FOR FURTHER INFORMATION CONTACT: For questions about the program discussed herein, contact Ms. Cindi Ptak by telephone at (202) 366-1586; by email at cindi.ptak@dot.gov; or by mail at Federal Highway Administration, 1200 New Jersey Avenue SE., Washington, DC 20590. Office hours are from 8:30 a.m. to 5:00 p.m. e.t., Monday through Friday, except Federal holidays. For legal questions, contact Ms. Vivian Philbin, Office of the Chief Counsel, by telephone at (720) 963-3445; by email at vivian.philbin@dot.gov; or by mail at Federal Highway Administration, Central Federal Lands Highway Division, 12300 West Dakota Avenue, Lakewood, CO 80228. Office hours are from 7:30 a.m. to 4:00 p.m. m.t., Monday through Friday, except Federal holidays.

SUPPLEMENTARY INFORMATION:

Electronic Access

You may retrieve a copy of the notice through the Federal eRulemaking portal at: http://www.regulations.gov. The Web site is available 24 hours each day, every day of the year. Electronic submission and retrieval help and guidelines are available under the help section of the Web site.

An electronic copy of this document may also be downloaded from Office of the Federal Register's home page at: http://www.archives.gov/federal_register and the Government Printing Office's Web page at: http://www.gpoaccess.gov.

Table of Contents

I. Background

II. Eligibility

A. Entities Eligible To Apply for Funding

B. Eligible Uses of Funds

III. Selection Criteria and Policy Considerations

A. Safety Planning Activities (Funding Goal 40% of TTPSF)

B. Engineering Improvements (Funding Goal 30% of TTPSF)

C. Enforcement and Emergency Services Improvements (Funding Goal 20% of TTPSF)

D. Education Programs (Funding Goal 10% of TTPSF)

IV. Evaluation Process

V. Application Process

A. Contents of Applications

B. Standard Form 424

C. Narrative

D. Contact Information

E. Protection of Confidential Business Information

F. Additional Information

G. Experiencing Unforeseen Grants.gov Technical Issues

VI. Program Funding and Award

VII. Request for Comments

VIII. Consultation

I. Background

On July 6, 2012, President Obama signed into law MAP-21 (Pub. L. 112-141), which authorizes TTPSF as a set aside of not more than 2 percent of the funds made available under the TTP for each of Federal Fiscal Years (FY) 2013 and 2014. Section 202(e) of title 23, United States Code (U.S.C.), provides that the funds are to be allocated based on an identification and analysis of highway safety issues and opportunities on tribal lands, as determined by the Secretary, on application of the Indian tribal governments for eligible projects described in 23 U.S.C. 148(a)(4). Eligible projects described in section 148(a)(4) include strategies, activities, and projects on a public road that are consistent with a State strategic highway safety plan and correct or improve a hazardous road location or feature, or address a highway safety problem.

Section 202(e) further specifies that in applying for TTPSF, an Indian tribal government, in cooperation with the Secretary of the Interior and, as appropriate, with a State, local government, or metropolitan planning organization, shall select projects from the transportation improvement program (TIP), subject to the approval of the Secretary of Transportation and the Secretary of the Interior.

II. Eligibility

A. Entities Eligible To Apply for Funding

Section 202(e) specifies that TTPSF are to be made available to Indian tribal governments. Accordingly, consistent with other FHWA funding provided to tribes, FHWA proposes that any federally recognized tribe identified on the list of “Indian Entities Recognized and Eligible to Receive Services from the Bureau of Indian Affairs” (published at 77 FR 47868) is eligible to apply for TTPSF.

B. Eligible Uses of Funds

Under section 202(e), projects for which Indian tribal governments may apply are highway safety improvement projects eligible under the Highway Safety Improvement Program as described in 23 U.S.C. 148(a)(4). Projects eligible for funding may include strategies, activities, or projects on a public road that are consistent with a State Strategic Highway Safety Plan (SHSP) and correct or improve a hazardous road location or feature, or address a highway safety problem.¹ This includes infrastructure and non-infrastructure strategies, activities or projects including education activities. For purposes of the TTPSF, FHWA proposes that for a project to be consistent with a State's SHSP it must be data-driven or address a priority in an applicable tribal transportation safety plan that considers the priorities and strategies addressed in the State SHSP. To be considered eligible for TTPSF, roadway or transportation facilities improvement projects also must be (1) included in the tribe's official National Tribal Transportation Facility Inventory, as identified in 23 U.S.C. 202(b)(1), and (2) listed in the TIP.

¹ Examples of eligible HSIP projects include but are not limited to the projects set for in 23 U.S.C. 148(a)(4)(B).

III. Selection Criteria and Policy Considerations

The FHWA proposes to award TTPSF funds based on the selection criteria and policy considerations as outlined below.

The FHWA shall give priority consideration to eligible projects under 23 U.S.C. 148(a)(4) that fall within one of the following four categories: (1) Safety planning activities; (2) engineering improvements; (3) enforcement and emergency services improvements; and (4) education programs. The priority categories were determined in consultation with the Tribal Transportation Program Coordinating Committee (TTPCC) ² and are intended to strengthen safety planning activities in tribal transportation while also directing resources to needed safety improvements. The categories are also consistent with the FHWA SHSP for Indian Lands which has as its mission to, “Implement effective transportation safety programs to save lives while respecting Native American culture and tradition by fostering communication, coordination, collaboration, and cooperation.” ³ These categories are also consistent with the Tribal Safety Management Implementation Plan (TSMIP). The TSMIP recognizes that, “tribal safety plans are an essential component and an effective planning tool for prioritizing and implementing safety solutions.” ⁴ The TSMIP also states that “reducing highway fatalities and serious injuries with any sustained success requires that all four elements (4E's) of highway safety be addressed—engineering, enforcement, education, and emergency services. A Tribal Safety Program, whether large or small, should work to address the 4 E's, and its foundation, data.”

² The TTPCC is a committee established in 25 CFR Part 170 and is charged with providing input and recommendations to the Bureau of Indian Affairs (BIA) and FHWA in developing TTP policies and procedures. Its members are appointed by the Secretary of the Interior and represent all 12 BIA Regions. Tribal consultation is described further in Section VIII of this notice.

³ The Strategic Safety Plan of Indian Lands is available at: http://flh.fhwa.dot.gov/programs/ttp/safety/documents/strategic-hsp.pdf.

⁴ The SMS Implementation Plan is available at: http://flh.fhwa.dot.gov/programs/ttp/safety/documents/sms-implementation.pdf.

The FHWA proposes to allocate the TTPSF among the four categories as follows: (1) Safety planning activities (40 percent); (2) engineering improvements (30 percent); (3) enforcement and emergency services improvements (20 percent); and (4) education programs (10 percent). These funding goals were established with the TTPCC and will be reviewed annually and may be adjusted to reflect current tribal transportation safety priorities and needs. These proposed allocation amounts provide substantial funding for tribal safety plans to reflect the strong need that has been identified in this area and to ensure that all tribes have an opportunity to assess their safety needs and prioritize safety projects. The remaining proposed allocation amounts were established based on the significant need for transportation related capital improvement projects, while still allowing for applications that would cover all 4E's of safety.

A. Safety Planning Activities (Funding Goal 40 Percent of TTPSF)

The development of a tribal safety plan that is data driven, identifies transportation safety issues, prioritizes activities, is coordinated with the State SHSP and promotes a comprehensive approach to addressing safety needs by including all 4E's is a critical step in improving highway safety. Additional information on developing a tribal safety plan can be found at: http://flh.fhwa.dot.gov/programs/ttp/safety/.

Accordingly, FHWA proposes to award TTPSF for developing and updating tribal safety plans, and other safety planning activities. Eligible uses of funds are described in Section II of this notice and example projects are listed in 23 U.S.C. 148(a)(4), which can be found at: http://www.fhwa.dot.gov/map21/docs/title23usc.pdf.

The FHWA will use the following criteria in the evaluation of TTPSF funding requests for tribal safety plans: (1) Development of a tribal safety plan where none currently exists; and (2) age and status of existing tribal safety plans. The FHWA will use the following criteria in the evaluation of TTPSF funding requests for safety planning activities: (1) Inclusion of the activity in a completed State SHSP or tribal transportation safety plan that is no more than 5 years old; (2) submission of supporting data that clearly demonstrates the need for the activity; (3) leveraging of private or other public funding; (4) extent to which the project compliments a comprehensive approach to safety and addresses elements of the 4Es.

B. Engineering Improvements (Funding Goal 30 Percent of TTPSF)

Eligible uses of funds are described in Section II of this notice and example projects are listed in 23 U.S.C. 148(a)(4) which can be found at: http://www.fhwa.dot.gov/map21/docs/title23usc.pdf.

The FHWA proposes to award TTPSF for engineering improvement projects. The FHWA will use the following criteria in the evaluation of funding requests for engineering improvements: (1) Inclusion of the activity in a completed State SHSP or tribal transportation safety plan that is no more than 5 years old; (2) inclusion of the activity in a completed road safety audit, engineering study, impact assessment or other engineering document; (3) submission of supporting data that clearly demonstrates the need for the project; (4) ownership of the facility; (5) leveraging of private or other public funding; (6) years since the tribe has last received funding for an TTPSF engineering improvement project; (7) extent to which the project compliments a comprehensive approach to safety and addresses elements of the 4Es.

C. Enforcement and Emergency Services Improvements (Funding Goal 20 Percent of TTPSF)

Eligible uses of funds are described in Section II of this notice and example projects are listed in 23 U.S.C. 148(a)(4) which can be found at: http://www.fhwa.dot.gov/map21/docs/title23usc.pdf.

The FHWA proposes to award TTPSF for enforcement and emergency service projects. The FHWA will use the following criteria in the evaluation of funding requests for enforcement and emergency services improvements: (1) Inclusion of the activity in a completed State SHSP or tribal transportation safety plan that is no more than 5 years old; (2) submission of supporting data that clearly demonstrates the need for the project; (3) leveraging of private or other public funding; (4) extent to which the project compliments a comprehensive approach to safety and addresses elements of the 4Es.

D. Education Programs (Funding Goal 10 Percent of TTPSF)

Eligible uses of funds are described in Section II of this notice and example projects are listed in 23 U.S.C. 148(a)(4) which can be found at: http://www.fhwa.dot.gov/map21/docs/title23usc.pdf.

The FHWA proposes to award TTPSF for education projects. The FHWA will use the following criteria in the evaluation of funding requests for education projects: (1) Inclusion of the activity in a completed State SHSP or tribal transportation safety plan that is no more than 5 years old; (2) submission of supporting data that clearly demonstrates the need for the project; (3) leveraging of private or other public funding; (4) extent to which the project compliments a comprehensive approach to safety and addresses elements of the 4Es.

IV. Evaluation Process

The TTPSF grant applications will be evaluated in accordance with the below discussed evaluation process. The FHWA will establish an evaluation team to review each application received by FHWA prior to the Application Deadline. The evaluation team will be led by FHWA and will include members from the Bureau of Indian Affairs (BIA). The team will include technical and professional staff with relevant experience and expertise. The evaluation teams will be responsible for evaluating and rating all of the projects and making funding recommendations.

All proposals will be evaluated and assigned a rating of “Highly Qualified,” “Qualified,” or “Not Qualified.” The ratings, as defined below, are proposed within each priority funding category as follows:

1. Safety Plans and Safety Planning Activities

a. Highly Qualified Safety Plans: Requests (up to a maximum of $10,000.00) for development of new tribal safety plans or to update incomplete tribal safety plans and requests (up to a maximum of $5,000.00) to update existing tribal safety plans that are more than 3 years old.

b. Qualified: Requests for other safety planning efforts that are in a current State SHSP or tribal safety plan; have leverage with other funding and are part of a comprehensive approach including other safety efforts.

c. Not Qualified: Projects that do not meet the eligibility requirements; any request to update an existing tribal safety plan that is less than 3 years old; projects that are not included in a State SHSP or tribal safety plan or do not have a comprehensive approach to safety with other partners.

If the number of applications rated as “highly qualified” exceed the amount of available funding, FHWA intends to give priority funding consideration to requests for development of new tribal safety plans.

2. Engineering Improvements

a. Highly Qualified: Efforts that are in a current State SHSP or tribal safety plan; data included in the application that directly supports the project; project is in a current road safety audit, engineering study, impact assessment or other engineering study; projects located on a BIA or Tribal facility; significant leverage with other funding; the tribe has not received funding for a safety construction project in more than 10 years or the project is part of a comprehensive approach to safety which includes three or more other safety efforts.

b. Qualified: Efforts that are in a current State SHSP or tribal safety plan, but the plan is more than 5 years old; some data included in the application that supports the project; project is in a road safety audit, engineering study, impact assessment or other engineering study that is more than 5 years old; project is located on a transportation facility not owned by a tribe or BIA; some leveraging with other funding; the tribe has not received funding for a safety construction project in the last 10 years or the projects is part of a coordinated approach with one to two other safety efforts.

c. Not Qualified: Projects that do not meet the eligibility requirements; are not included in a State SHSP or tribal safety plan; no data provided in the application to support the request; are not included in a road safety audit, engineering study, impact assessment or other engineering study; have received funding for a safety construction project within the last 2 years or do not have a comprehensive approach to safety with other partners.

If the number of applications rated as “highly qualified” exceed the amount of available funding, FHWA intends to give priority funding consideration to those applicants that have provided sufficient data that supports the project and indicates that the project is included in a road safety audit or other engineering study that clearly identifies the improvements that are needed.

3. Enforcement and Emergency Services

a. Highly Qualified: Efforts that are in a current State SHSP or tribal safety plan; data included in the application that directly supports the requested project, significant leverage with other funding or are part of a comprehensive approach to safety, including three or more other safety efforts.

b. Qualified: Efforts that are in a current State SHSP or tribal safety plan but the plan is more than 5 years old; some data included in the application that supports the project; some leveraging with other funding or are coordinated with one to two other safety efforts.

c. Not Qualified: Projects that do not meet the eligibility requirements; are not included in a State SHSP or tribal safety plan; no data provided in the application that supports the request or project does not have a comprehensive approach to safety with other partners.

If the number of applications rated as “highly qualified” exceed the amount of available funding, FHWA intends to give priority funding consideration to those applicants that have provided sufficient data that supports the project and indicates that the project is included in an existing transportation safety plan.

4. Education Programs

a. Highly Qualified: Efforts that are in a current State SHSP or tribal safety plan; data included in the application that directly supports the requested project; significant leverage with other funding or are part of a comprehensive approach to safety including three or more other safety efforts.

b. Qualified: Efforts that are in a current State SHSP or tribal safety plan but the plan is more than 5 years old; some data included in the application that supports the project; some leveraging with other funding or are coordinated with one to two other safety efforts.

c. Not Qualified: Projects that do not meet the eligibility requirements; are not included in a State SHSP or tribal safety plan; no data provided in the application that supports the request or project does not have a comprehensive approach to safety with other partners.

If the number of applications rated as “highly qualified” exceed the amount of available funding, FHWA intends to give priority funding consideration to those applicants that have provided sufficient data that supports the project and shown the project is included in an existing transportation safety plan.

V. Application Process

A. Contents of Applications

The FHWA proposes that applicants would include all of the information requested below in their applications. The FHWA may request any applicant to supplement the data in its application, but would encourage applicants to submit the most relevant and complete information the applicant could provide. The FHWA also would encourage applicants, to the extent practicable, to provide data and evidence of project merits in a form that is publicly available or verifiable.

A complete application would consist of: (1) The Standard Form 424 (SF 424) available from Grants.gov; and (2) the narrative attachment to the SF 424 as described below.

B. Standard Form 424, Application for Federal Assistance

Applicants should see www.grants.gov/assets/SF424Instructions.pdf for instructions for completing the SF 424, which is part of the standard Grants.gov submission.

C. Narrative (Attachment to SF 424)

Applicants would attach a supplemental narrative to their submission in Grants.gov to successfully complete the application process. Once completed, the applicant would include the supplemental narrative in the attachments section of the SF 424 mandatory form.

The applicant would identify in the project narrative the eligibility category under which the project identified in the application fits. The applicant also would respond to the application requirements proposed below. The FHWA proposes that the project narrative would be prepared with standard formatting preferences (e.g. a single-spaced document, using a standard 12-point font, such as Times New Roman, with 1-inch margins).

An application would include any information needed to verify that the project meets the statutory eligibility criteria as well as other information required for FHWA to assess each of the proposed criteria specified in Section V (Selection Criteria). Applicants would be required to demonstrate the responsiveness of their proposal to any pertinent selection criteria with the most relevant information that applicants could provide, regardless of whether such information is specifically requested, or identified, in the final notice. Applicants would provide concrete evidence of project milestones, financial capacity and commitment in order to support project readiness.

Consistent with the requirements for an eligible highway safety improvement project under 23 U.S.C. 148(a)(4), applicants would be required to describe clearly how the project would correct or improve a hazardous road location or feature or would address a highway safety problem. The application would include supporting data.

For ease of review, FHWA proposes that the project narrative generally adhere to the following basic outline, and include a table of contents, project abstract, maps and graphics:

1. Project Abstract: Describe project work that would be completed under the project, the hazardous road location or feature or the highway safety problem that the project would address, and whether the project is a complete project or part of a larger project with prior investment. (Maximum five sentences.) The project abstract would succinctly describe how this specific request for TTPSF would be used to complete the project.

2. Project Description: (Including information on the expected users of the project, a description of the hazardous road location or feature or the highway safety problem that the project would address, and how the project would address these challenges);

3. Applicant information and coordination with other entities (identification of the Indian tribal government applying for TTPSF, description of cooperation with other entities in selecting projects from the TIP as required under 23 U.S.C. 202(e)(2), information regarding any other entities involved in the project));

4. Grant Funds and Sources/Uses of Project Funds (information about the amount of grant funding requested for the project, availability/commitment of funds sources and uses of all project funds, total project costs, percentage of project costs that would be paid for with the TTPSF, and the identity and percentage shares of all parties providing funds for the project (including Federal funds provided under other programs));

5. A description of how the proposal meets the Selection Criteria identified in Section III (Selection Criteria and Policy Considerations) and the statutory eligibility criteria as described in Section II (Eligibility).

D. Contact Information

The applicant would include contact information requested as part of the SF-424. The FHWA would use this information if additional application information is needed or to inform parties of FHWA's decision regarding selection of projects. Contact information would be provided for a direct employee of the lead applicant. Contact information for a contractor, agent, or consultant of the lead applicant is insufficient for FHWA's purposes.

E. Additional Information on Applying Through Grants.gov

Applications for TTPSF would be submitted through Grants.gov. To apply for funding through Grants.gov, applicants must be properly registered. Complete instructions on how to register and apply can be found at www.grants.gov. If interested parties experience difficulties at any point during registration or application process, they should call the Grants.gov Customer Support Hotline at 1-800-518-4726, Monday-Friday from 7:00 a.m. to 9:00 p.m. e.t.

Registering with Grants.gov is a one-time process; however, processing delays may occur and it can take up to several weeks for first-time registrants to receive confirmation and a user password. Accordingly, FHWA highly recommends that potential applicants start the registration process as early as possible to prevent delays that may preclude submitting an application by the deadlines specified. Applications will not be accepted after the relevant due date; delayed registration is not an acceptable reason for extensions. In order to apply for TTPSF under this announcement and to apply for funding through Grants.gov, all applicants are required to complete the following:

1. Acquire a DUNS Number. A DUNS number is required for Grants.gov registration. The Office of Management and Budget requires that all applicants for Federal funds include a DUNS (Data Universal Numbering System) number in their applications for a new award or renewal of an existing award. A DUNS number is a unique nine-digit sequence recognized as the universal standard for identifying and keeping track of entities receiving Federal funds. The identifier is used for tracking purposes and to validate address and point of contact information for Federal assistance applicants, recipients, and sub-recipients. The DUNS number will be used throughout the grant life cycle. Obtaining a DUNS number is a free, one-time activity that can be completed by calling 1-866-705-5711 or by applying online at http://fedgov.dnb.com/webform.

2. Acquire or Renew Registration with the CCR Database. All applicants for Federal financial assistance maintain current registrations in the Central Contractor Registration (CCR) database. An applicant must be registered in the CCR to successfully register in Grants.gov. The CCR database is the repository for standard information about Federal financial assistance applicants, recipients, and sub-recipients. Entities that have previously submitted applications via Grants.gov are already registered with CCR, as it is a requirement for Grants.gov registration. Please note, however, that applicants must update or renew their CCR registration at least once per year to maintain an active status, so it is critical to check registration status well in advance of relevant application deadlines. Information about CCR registration procedures can be accessed at: https://www.sam.gov/portal/public/SAM/.

3. Acquire an Authorized Organization Representative (AOR) and a Grants.gov Username and Password. Applicants will need to complete an AOR profile on Grants.gov and create a username and password. The assigned DUNS Number is required to complete this step. For more information about the registration process, go to: www.grants.gov/applicants/get_registered.jsp.

4. Acquire Authorization for the AOR from the E-Business Point of Contact (E-Biz POC). The E-Biz POC for the tribe must log in to Grants.gov to confirm the applicant as an AOR. Please note that there can be more than one AOR for your tribe.

5. Search for the Funding Opportunity on Grants.gov. Applicants would use the Catalog of Federal Domestic Assistance number for this solicitation is 20.205, titled Highway Planning and Construction, when searching for the TTPSF opportunity on Grants.gov.

6. Submit an Application Addressing All of the Requirements Outlined in this Funding Availability Announcement. Within 24 to 48 hours after submitting an electronic application, applicants should receive an email validation message from Grants.gov. The validation message will specify whether the application has been received and validated or rejected, with an explanation. Applicants are encouraged to submit applications at least 72 hours prior to the due date of the application to allow time to receive the validation message and to correct any problems that may have caused a rejection notification.

Note: When uploading attachments, applicants should use generally accepted formats such as .pdf, .doc, and .xls. While applicants may imbed picture files such as .jpg, .gif, .bmp, in your files, they should not save and submit the attachment in these formats. Additionally, the following formats will not be accepted: .com, .bat, .exe, .vbs, .cfg, .dat, .db, .dbf, .dll, .ini, .log, .ora, .sys, and .zip.

F. Experiencing Unforeseen Grants.gov Technical Issues

If an applicant experiences unforeseen Grants.gov technical issues beyond its control that prevent the submission of an application by the established deadline, such applicant must contact Grants.gov.

To ensure a fair competition for limited TTPSF, the following conditions are not valid reasons to permit late submissions: (1) Failure to complete the registration process before the deadline date; (2) failure to follow Grants.gov instructions on how to register and apply as posted on its Web site; (3) failure to follow all of the instructions in the funding availability notice; and (4) technical issues experienced with the applicant's computer or information technology environment.

VI. Program Funding and Award

Section 1101 of MAP-21 authorized $450,000,000 for the TTP for each of FY 2013 and 2014. Section 1119 of MAP-21 amends 23 U.S.C. 202(e) to provide that not more than 2 percent of such funds made available for the TTP may be allocated for TTPSF. Accordingly, FHWA expects that a maximum of $9,000,000 could be made available in each of FYs 2013 and 2014 for TTPSF. The FHWA anticipates high demand for this limited amount of funding and encourages applications for modest-sized, scalable requests that allow more tribes to receive funding.

VII. Request for Comments

Because this is a new category of funding under the TTP and a broad range of eligible activities will be considered, this notice invites interested parties to submit comments about FHWA's implementation of the TTPSF. Interested parties can provide comments on any aspect of FHWA's implementation of the changes required by MAP-21. The FHWA will consider these comments and publish a final notice of funding availability.

VIII. Consultation Process

The DOT issued Order 5301.1, “Department of Transportation Programs, Policies, and Procedures Affecting American Indians, Alaska Natives, and Tribes” on November 16, 1999. This Order affirmed the DOT's and its Modal Administrations' unique legal relationship with Indian tribes, established DOT's consultation and coordination process with Indian tribes for any action that may significantly or uniquely affect them, and listed goals for Modal Administrations to meet when carrying out policies, programs, and activities affecting American Indians, Alaska Natives, and tribes. The Department affirms its commitment to these principles, and those set forth in Executive Order 13175 and the President's November 5, 2009, memorandum in establishing the DOT Consultation Plan dated March 4, 2010, and found at: http://www.dot.gov/sites/dot.dev/files/docs/Tribal%20Consultation%20Plan.pdf

In furtherance of these documents pertaining to consultation, FHWA informally consulted with the TPPCC in categorizing the eligible activities and determining funding priorities as described herein. In addition to soliciting comments on this notice, FHWA expects to provide other outreach opportunities with tribes through webinars in advance of publication of a final notice of funding availability.

Authority: Section 1119 of Pub. L. 112-141; 23 U.S.C. 202(e).

Issued on: April 19, 2013.
Victor M. Mendez,
Federal Highway Administrator.

[FR Doc. 2013-10100 Filed 4-29-13; 8:45 am]

BILLING CODE 4910-22-P